ENVIRONMENTAL PROTECTION AGENCY

[FRL-6894-1]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1381.06; Recordkeeping and Reporting Requirements for Solid Waste Disposal Facilities and Practices; in 40 CFR part 258; was approved 08/28/2000; OMB No. 2050-0122; expires 08/31/2003.

EPA ICR No. 1630.06; Amendment of the Oil Pollution Act Facility Response Plan requirements; in 40 CFR part 112; was approved 08/11/2000; OMB No. 2050-0135; expires 08/31/2003.

EPA ICR No. 1712.03; NESHAP for Shipbuilding and Ship Repair Facilities (Surface Coating); in 40 CFR part 63, subpart II; was approved 08/04/2000; OMB No. 2060-0330; expires 08/31/2003.

EPA ICR No. 0877.07; Environmental Radiation Ambient Monitoring System (ERAMS); was approved 08/02/2000; OMB No. 2060-0015; expires 08/31/2003.

EPA ICR No. 1695.06; Non-Road Spark-Ignition Engines At or Below 19 Kilowatts for Emission Certification and the Averaging, Banking, and Trading Program; in 40 CFR part 90, subpart C; was approved 08/03/2000; OMB No. 2060-0338; expires 11/30/2000.

EPA ICR No. 1939.01; Resource Conservation and Recovery Act (RCRA) Corrective Action Information Request; was approved 08/02/2000; OMB No. 2050-0170; expires 02/28/2002.

EPA ICR No. 1249.06; Recordkeeping for Certified Applicators Using 1080 Collars for Livestock Protection; was approved 09/05/2000; OMB No. 2070-0074; expires 09/30/2003.

EPA ICR No. 0276.11; Application for Experimental Use Permit (EUP) to Ship and Use a Pesticide for Experimental Purposes Only; in 40 CFR part 172; was approved 09/05/2000; OMB No. 2070-0040; expires 09/30/2003.

EPA ICR No. 1353.06; Land Disposal Restrictions No-Migration Variance; in 40 CFR 268.6; was approved 09/08/2000; OMB No. 2050-0062; expires 09/30/2003.

EPA ICR No. 1917.01; Indoor Air Quality Practices in Large Buildings Survey; was approved 09/08/2000; OMB No. 2060-0436; expires 09/30/2003.

EPA ICR No. 0229.13; Standards for the Use or Disposal of Sewage Sludge; in 40 CFR parts 122-125 and 503; was approved 09/21/2000; OMB No. 2040-0004; expires 09/30/2001.

Short Term Extensions

EPA ICR No. 1722.02; Control of Air Pollution, Emission Standards for New Gasoline Spark-Ignition Marine Engines; in 40 CFR part 91, subpart B, C, D, and E; OMB No. 2060-0321; on 07/31/2000 OMB extended the expiration date through 12/31/2000.

EPA ICR No. 1761.02; Regulations for a Voluntary Emissions Standards Program Applicable to Manufactures of Light-Duty Vehicles and Trucks Beginning in Model Year 1977; OMB No. 2060-0345; on 07/31/2000 OMB extended the expiration date through 01/31/2001.

EPA ICR No. 0010.08; Importation Requirements for Importation of Nonconforming Vehicles; in 40 CFR part 85 and 40 CFR part 89; OMB No. 2060-0095; on 08/04/2000 OMB extended the expiration date through 11/30/2000.

EPA ICR No. 1673.02; Reporting and Recordkeeping Requirements for Importation of Nonconforming Non-road Small Spark Ignition Engines; in 40 CFR part 85, subparts P and R and 40 CFR parts 89 and 90; OMB No. 2060-0294; on 08/04/2000 OMB extended the expiration date through 11/30/2000.

EPA ICR No. 1683.02; NSPS for Primary Aluminum Reduction Plants, Recordkeeping and Reporting; in 40 CFR 60.192, 60.194, and 60.195; OMB No. 2060-0031; on 08/10/2000 OMB extended the expiration date through 11/30/2000.

EPA ICR No. 1604.05; NSPS for Secondary Brass and Brass and Bronze Production Plants, Recordkeeping and Reporting; in 40 CFR 60.133, 60.166, 60.176, 60.186, 60.195, and 60.266; OMB No. 2060-0110; on 08/10/2000 OMB extended the expiration date through 11/30/2000.

EPA ICR No. 1049.08; Notification of Episodic Releases of Oil and Hazardous Substances; in 40 CFR parts 110, 117, and 302; OMB No. 2050-0046; on 08/15/2000 OMB extended the expiration date through 02/28/2001.

EPA ICR No. 1664.03; National Oil and Hazardous Substances Pollution Contingency Plan; in 40 CFR part 300, subpart J; on 08/15/2000 OMB extended the expiration date through 11/30/2000.

EPA ICR No. 1135.06; NSPS for Magnetic Tape Coating Facilities; in 40 CFR part 60, subpart SSS; OMB No. 2060-0171; on 08/16/2000 OMB extended the expiration date through 11/30/2000.

EPA ICR No. 1816.01; State Source Water Assessment and Protection Programs; OMB No. 2040-0197; on 08/21/2000 OMB extended the expiration date through 12/31/2000.

EPA ICR No. 0184.05; Vehicle Emission Control Defect Survey Questionnaire; OMB No. 2060-0047; on 08/28/2000 OMB extended the expiration date through 11/30/2000.

EPA ICR No. 0282.10; Emission Defect Information and Voluntary Emission Recall Report; in 40 CFR 90.800, 90.802, and 90.804; OMB No. 2060-0048; on 08/31/2000 OMB extended the expiration date through 12/31/2000.

EPA ICR No. 0116.05; Emission Control System Performance Warranty Regulations and Voluntary Aftermarket Part Certification Program; in 40 CFR part 85, subpart V; OMB No. 2060-0060; on 08/31/2000 OMB extended the expiration date through 11/30/2000.

EPA ICR No. 1797.01; NSPS for Petroleum Storage Liquid Vessels; in 40 CFR part 60, subpart K; OMB No. 2060-0009; on 08/31/2000 OMB extended the expiration date through 11/30/2000.

EPA ICR No. 1427.05; National Pollutant Discharge Elimination System (NPDES); in 40 CFR parts 122, 123, 124, and 125; OMB No. 2040-0110; on 09/11/2000 OMB extended the expiration date through 11/30/2000.

EPA ICR No. 1000.06; Polychlorinated Biphenyls (PCBs) Used in Electrical Equipment; OMB No. 2070-0003; on 09/11/2000 OMB extended the expiration date through 03/31/2001.

EPA ICR No. 0994.06; Beach Closing Survey Report on the Great Lakes; OMB No. 2090-0003, on 09/11/2000 OMB extended the expiration date through 03/31/2001.

EPA ICR No. 1810.01; Obtaining Unbilled Grant Expenses from Grant Recipients at Year-End; OMB No. 2030-0037; on 09/14/2000 OMB extended the expiration date through 03/31/2001.

EPA ICR No. 0234.06; Performance Evaluation Studies on Water and Wastewater Laboratories; OMB No. 2080-0021; on 09/15/2000 OMB extended the expiration date through 12/31/2000.

EPA ICR No. 1680.02; Combined sewer Overflow Policy; OMB No. 2040-0170; on 09/15/2000 OMB extended the expiration date through 12/31/2000.

EPA ICR No. 1230.09; Prevention of Significant Deterioration Non-Attainment Area New Source Review; in 40 CFR parts 51 and 52; OMB No. 2060-0003; on 09/21/2000 OMB extended the expiration date through 03/31/2001.

Comments Filed

EPA ICR No.1948.01; National Primary Drinking Water Regulations: Arsenic and Clarifications to Compliance and New Source Contaminants Monitoring; in 40 CFR 141.23; on 09/20/2000 OMB filed comment.

EPA ICR No. 1973.01; Cooling Water Intake Structures New Facility (Proposed Rule); in 40 CFR 122.2, 122.29(b), 40 CFR 125.83 and 125.81; on 09/20/2000 OMB filed comment.

EPA ICR No. 1928.01; Proposed Long Term 1 Enhanced Surface Water Treatment and Filter Backwash Rule (LT1FBR); in 40 CFR part 141, subparts C, D, and H, 40 CFR part 142, subpart B; on 09/21/2000 OMB filed comment.

EPA ICR No. 1944.01; Baseline Standards and Best Management Practices for the Coal Mining Point Category—Coal Remining Subcategory and Western Alkaline Coal Mining Subcategory; in 40 CFR part 434; on 09/21/2000 OMB filed comment.

EPA ICR No. 1934.01; Proposed Ground Water Rule; in section 1412(b); on 09/21/2000 OMB filed comment.

EPA ICR No. 0370.17; Proposed Revision of Federal UIC Requirements for Class 1 Municipal Wells in Florida; in 40 CFR parts 144 and 146; OMB No. 2040-0042; on 09/21/2000 OMB filed comment.

EPA ICR No. 1953.01; Best Management Practices Alternatives, Effluent Limitations Guidelines and Standards, Oil and Gas Extraction Point Source Category; in 40 CFR part 435; on 09/21/2000 OMB filed comment.

Actions Withdrawn

EPA ICR No. 1909.01; Assess Compliance with EPCRA Section 312 Reporting Requirements; on 08/23/2000 EPA withdrew this collection from OMB review.

EPA ICR No. 1619.04; EPA Indoor Environmental Quality Questionnaire; OMB No. 2060-0244; on 09/08/2000 EPA withdrew this collection from OMB review.

EPA ICR No. 1064.09, NSPS for Automobile and Light Duty Truck Surface Coating Operations; in 40 CFR part 63, subpart MM; OMB No. 2060-0034; on 09/22/2000 EPA withdrew this collection from OMB review.

Notice of Transfer

EPA ICR No. 1773.02; New and Amended Reporting and Recordkeeping Requirements for NESHAP from Hazardous Waste Combustors; in 40 CFR part 63, subpart EEE; on 08/04/2000 OMB No. 2060-0349; (Air and Radiation); was transferred to OMB No. 2050-0171 (Solid Waste and Emergency Response).

EPA ICR No. 1797.01; NSPS for Petroleum Storage Liquid Vessels; in 40 CFR part 60, subpart K; OMB No. 2020-0009; (Office of Enforcement and Compliance Assurance); was transferred to OMB No. 2060-0442; (Office of Air and Radiation).

Notice of Change

EPA ICR No. 1630.06; Amendment of the Oil Pollution Act Facility Response Plan; in 40 CFR part 112; OMB No. 2050-0135; on 08/15/2000 OMB changed the expiration date from 08/31/2003 to 12/31/2000.

Dated: October 19, 2000.
Oscar Morales,
Director, Collection Strategies Division.

[FR Doc. 00-28012 Filed 10-31-00; 8:45 am]

BILLING CODE 6560-50-P